DEPARTMENT OF HOMELAND SECURITY

Transportation Security Administration

Reports, Forms, and Record Keeping Requirements: Agency Information Collection Activity Under OMB Review; Employment Standards, 49 CFR Parts 1542 and 1544

AGENCY: Transportation Security Administration (TSA), DHS.

ACTION: Notice.

SUMMARY: This notice announces that TSA has forwarded the Information Collection Request (ICR) abstracted below to the Office of Management and Budget (OMB) for review and clearance of an extension of the currently approved collection under the Paperwork Reduction Act. The ICR describes the nature of the information collection and its expected burden. TSA published a Federal Register notice, with a 60-day comment period soliciting comments, of the following collection of information on December 6, 2002, 67 FR 72720.

DATES: Send your comments by July 11, 2003. A comment to OMB is most effective if OMB receives it within 30 days of publication.

ADDRESSES: Comments may be faxed to the Office of Information and Regulatory Affairs, Office of Management and Budget, Attention: DHS-TSA Desk Officer, at (202) 395-5806.

FOR FURTHER INFORMATION CONTACT: Conrad Huygen, Privacy Act Officer, Information Management Programs, Office of Finance and Administration, Transportation Security Administration HQ, West Tower, Floor 4, TSA-17, 400 Seventh Street, SW., Washington, DC 20590-0001; telephone (571) 227-1954; facsimile (571) 227-2912.

SUPPLEMENTARY INFORMATION:

Transportation Security Administration (TSA)

Title: Employment Standards.

Type of Request: Extension of a currently approved collection.

OMB Control Number: 1652-0006.

Forms(s): NA.

Affected Public: Airports and air carriers.

Abstract: Section 105 of Public Law 101-604, the Aviation Security Improvement Act of 1990, directed the Federal Aviation Administration (FAA) to prescribe standards for the hiring and continued employment of air carrier and airport security personnel. These standards were developed and implemented at 14 CFR parts 107 and 108. The Aviation and Transportation Security Act of 2001, Public Law 107-71, transferred the responsibility for civil aviation security, including the prescribing of employment standards as outlined above, from FAA to TSA. In February 2002, TSA implemented its employment standards at 49 CFR parts 1542 and 1544, while 14 CFR parts 107 and 108 were repealed. Airport operators maintain records of compliance with part 1542 for those employees with access privileges to secure areas of the airport. Air carrier operators maintain records of compliance with part 1544 for selected crew and security employees. TSA civil aviation security inspectors review these records to ensure that the safety and security of the public is not compromised. Estimates regarding the burden this collection places on the affected public were recalculated to more accurately reflect the time and effort that is being devoted to this collection in the wake of September 11, 2001.

Number of Respondents: 1165.

Estimated Annual Burden Hours: 120,005.

TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including through the use of appropriate automated, electronic, mechanical, or other technological collection techniques or other forms of information technology.

Issued in Arlington, Virginia, on June 6, 2003.
Susan T. Tracey,
Deputy Chief Administrative Officer.

[FR Doc. 03-14803 Filed 6-10-03; 8:45 am]

BILLING CODE 4910-62-P